DEPARTMENT OF EDUCATION

Notice of Proposed Information Collection Requests

AGENCY: Department of Education.

ACTION: Correction notice.

SUMMARY: On July 31, 2001, a 60-day notice inviting comment from the public was published for the Revision of Consolidated Annual Performance and Financial Reports for the Carl D. Perkins Vocational and Technical Education Act in the Federal Register (Volume 66, Number 147) dated July 31, 2001. However, the title of the collection should be Vocational Technical Education Annual Performance and Financial Reports. The Leader, Regulatory Information Management, Office of the Chief Information Officer, hereby issues a correction notice on the submission for OMB review as required by the Paperwork Reduction Act of 1995.

DATES: Interested persons are invited to submit comments on or before October 1, 2001.

ADDRESSES: Written comments should be addressed to the Office of Information and Regulatory Affairs, Attention: Lauren Wittenberg, Acting Desk Officer, Department of Education, Office of Management and Budget, 725 17th Street, NW., Room 10235, New Executive Office Building, Washington, DC 20503 or should be electronically mailed to the internet address LAUREN_WITTENBERG @OMB.EOP.GOV.

Requests for copies of the proposed information collection request may be accessed from http://edicsweb.ed.gov, or should be addressed to Vivian Reese, Department of Education, 400 Maryland Avenue, SW, Room 5624, Regional Office Building 3, Washington, DC 20202-4651 or should be electronically mailed to the internet address OCIO_IMB_Issues@ed.gov, or should be faxed to 202-708-9346.

FOR FURTHER INFORMATION CONTACT: Sheila Carey at her internet address Sheila.Carey@ed.gov.

Dated: August 1, 2001.
John Tressler,
Leader, Regulatory Information Management Group, Office of the Chief Information Officer.

[FR Doc. 01-19658 Filed 8-6-01; 8:45 am]

BILLING CODE 4000-01-P